DEPARTMENT OF HEALTH AND HUMAN SERVICES

National Institutes of Health

National Human Genome Research Institute; Amended Notice of Meeting

Notice is hereby given of a change in the meeting of the National Human Genome Research Institute Special Emphasis Panel, April 22, 2025, 1 p.m. to April 22, 2025, 5 p.m., NHGRI, 6700B Rockledge Dr., Bethesda, MD 20817 which was published in the Federal Register on March 28, 2025, 90 FR 14144.

Amend to change Scientific Review Officer due to staffing changes. The meeting is closed to the public.

Dated: April 3, 2025.
David W. Freeman,
Supervisory Program Analyst, Office of Federal Advisory Committee Policy.

[FR Doc. 2025-06065 Filed 4-8-25; 8:45 am]

BILLING CODE 4140-01-P